DEPARTMENT OF COMMERCE

National Oceanic and Atmospheric Administration

RIN 0648-XD947

International Trade Data System Test Concerning the Electronic Submission of Certain Data Required for Imports

AGENCY: National Marine Fisheries Service (NMFS), National Oceanic and Atmospheric Administration (NOAA), Commerce.

ACTION: Notice; request for comments.

SUMMARY: NMFS announces a pilot test of the International Trade Data System (ITDS) involving the electronic submission of forms and/or data, related to importations of fish products regulated by NMFS, using the Partner Government Agency (PGA) Message Set and Document Imaging System (DIS) components of the Automated Commercial Environment (ACE). The U.S. Customs and Border Protection (CBP) and NMFS have developed a pilot plan to test and assess the electronic transmission of import data for tuna, swordfish and toothfish.

The pilot test will involve using the ACE, the NMFS PGA Message Set, the DIS and the Automated Broker Interface (ABI) to transmit the data required for admissibility determinations for entries of tuna, swordfish and toothfish. ABI is the electronic data interchange that enables participants to file electronically required import data with CBP and transfers that data into ACE. Initially, under this test, NMFS PGA Message Set data may be submitted only for formal and informal consumption entries (entry types 01 and 11), filed at certain ports.

DATES: The test will commence after July 1, 2015 and will continue until concluded by publication of a notice in the Federal Register ending the test. Participants should consult the following Web site to determine which ports are operational for the test and the date that they become operational: http://www.cbp.gov/document/guidance/list-aceitds-pga-message-set-pilot-ports. Comments will be accepted through the duration of the test.

ADDRESSES: To submit comments concerning this test program, send an email to Josephine Baiamonte (Josephine.Baiamonte@dhs.gov), Director, Business Transformation, ACE Business Office (ABO), Office of International Trade. In the subject line of an email, please use, “Comment on PGA Message Set Test FRN”.

Any party seeking to participate in the PGA Message Set test should contact their client representative. Interested parties without an assigned client representative should submit an email to Steven Zaccaro at steven.j.zaccaro@cbp.dhs.gov with the subject heading “PGA Message Set Test FRN-Request to Participate”.

FOR FURTHER INFORMATION CONTACT: For technical questions related to the Automated Commercial Environment (ACE) or ABI transmissions, contact your assigned client representative. Interested parties without an assigned client representative should direct their questions to Steven Zaccaro at steven.j.zaccaro@cbp.dhs.gov. For PGA related questions, contact Emi Wallace (CBP) at mailto:emi.r.wallace@cbp.dhs.gov and for NMFS related questions contact Dale Jones (NMFS) at dale.jones@noaa.gov.

SUPPLEMENTARY INFORMATION:

Background

I. The National Customs Automation Program (NCAP)

NCAP was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions.

CBP's modernization efforts are accomplished through phased releases of ACE component functionality designed to replace a specific legacy ACS function. Each release will begin with a test and will end with mandatory use of the new ACE feature, thus retiring the legacy ACS function. Each release builds on previous releases and sets the foundation for subsequent releases. ABI allows participants to electronically file required import data with CBP and transfers that data into ACE.

II. International Trade Data System

This test is in furtherance of the ITDS, which is statutorily authorized by section 405 of the Security and Accountability for Every (SAFE) Port Act of 2006, Public Law 109-347. The purpose of ITDS, as defined by section 4 of the SAFE Port Act of 2006, is to eliminate redundant information filing requirements, efficiently regulate the flow of commerce, and effectively enforce laws and regulations relating to international trade, by establishing a single portal system, operated by CBP, for the collection and distribution of standard electronic import and export data required by all participating Federal agencies.

III. Partner Government Agency Message Set

The PGA Message Set is the data needed to satisfy the PGA reporting requirements. For purposes of this test, the affected PGA is the NMFS. ACE enables the message set by acting as the “single window” for the submission of trade-related data required by the PGAs only once to CBP. This data must be submitted at any time prior to the arrival of the merchandise on the conveyance transporting the cargo to the United States as part of an ACE Entry/Cargo Release or Entry Summary. The data will be validated and made available to the relevant PGAs involved in import, export, and transportation-related decision making. The data will be used to fulfill merchandise entry and entry summary requirements and will allow for earlier release decisions and more certainty for the importer in determining the logistics of cargo delivery. Also, by virtue of being electronic, the PGA Message Set will eliminate the necessity for the submission and subsequent handling of paper documents. All PGA Message Set participants are required to use a software program that has completed ACE certification testing for the PGA Message Set.

Alternatively, test participants may transmit required PGA data using the DIS as ACE is ready to receive imaged copies of NMFS forms and documents through the DIS. For information regarding the use of DIS, and for a list of PGA forms and documents which may be transmitted to ACE using DIS, please see http://www.cbp.gov/trade/ace/features. At this time, ACE is prepared to accept certain PGA data elements for NMFS for type “01” (consumption) and type “11” (informal) commercial entries filed at specified ports. CBP plans on expanding to include Type “02” (quota) entries in the near future.

The PGA data elements comprising the test are generally those found in the current paper forms (NOAA Form 370, Bluefin Tuna Catch Document, Swordfish Statistical Document, Bigeye Statistical Document, Dissostichus Catch Document, and the associated re-export certificates, if any), which are currently handled via fax, email, and/or paper communication with NMFS. These data elements are set forth in the supplemental Customs and Trade Automated Interface Requirements (CATAIR) guidelines for NMFS. These technical specifications, including the CATAIR chapters can be found at the following link: http://www.cbp.gov/trade/ace/catair.

Upon commencement of this test, a limited number of ports will be accepting PGA Message Set data and DIS documents and forms. A list of those ports and the date they become operational is provided on the following Web site: http://www.cbp.gov/document/guidance/list-aceitds-pga-message-set-pilot-ports. CBP may expand to additional ports in the future. Test participants and interested parties should consult the above-referenced Web site for changes/additions to the list of ports where NMFS data and DIS forms and documents may be sent.

IV. The National Marine Fisheries Service Test

This ITDS test is in furtherance of key CBP ITDS initiatives as provided in SAFE Port Act of 2006. The goal is to establish ACE as the “single window” for the Government and trade community by automating and enhancing the interaction between international trade partners, CBP, and PGAs by facilitating electronic collection, processing, sharing, and review of trade data and documents required by Federal agencies during the cargo import and export process. Processing trade data through ITDS and ACE will significantly increase efficiency and reduce costs over the manual, paper-based interactions that are currently in place. The PGA Message Set and DIS will improve communication between NMFS and entry filers regarding imports and, for eligible entries, will allow test participants to submit the required data once rather than submitting data separately to CBP and NMFS, resulting in quicker processing. During this test, participants will collaborate with CBP and NMFS to examine the effectiveness of the “single window” capability.

NMFS programmatic requirements are separated into three different programs: the Highly Migratory Species (HMS) Program which includes various tunas and swordfish, the Antarctic Marine Living Resources (AMLR) program which covers fresh and frozen toothfish (Dissostichus species), and the NOAA Tuna Tracking and Verification Program (NOAA Form 370) which covers a variety of canned, frozen, pouched and other processed tuna but not fresh tuna. Under this test, NMFS required data will be transmitted electronically through ACE utilizing the PGA Message Set and DIS for any merchandise or combination thereof covered by any of these programs.

For approved participants, the pilot test may include all modes of transport at the selected port(s), and all commodities regulated under the three NMFS import monitoring programs when imported at one of the selected ports. The import filing process for the NMFS will require the submission of specifically designated data/information. Both the designated Partner Government Agency (PGA) Message Set and the Document Imaging System (DIS) will be utilized to collect the specified information that is required by NMFS.

The PGA Message Set data will be submitted to the CBP Automated Commercial Environment (ACE) system through the use of ABI at the time of the filing in addition to the CBP required import Entry or Entry Summary data. Scanned copies of specific documents required will be submitted at the time of filing to the CBP DIS, either through uploading the file copies to the ABI system or by sending them to the DIS as email attachments.

Examples of the kind of data that will be submitted as part of the PGA Message set are; the importer's permit number, a code for the ocean area of the harvest, a code for the type of gear used to harvest the fish or the code providing the country of registry for the fishing vessel that harvested the product. Examples of the types of scanned images that will be submitted to the DIS are; the international statistical documents pertaining to the harvest, re-export documents for product imported and re-exported from another country before shipment to the United States, or other specific and required catch/harvest documentation pertaining to the product being imported.

For information regarding merchandise regulated by NMFS and data, information, forms and documents required by NMFS, see the implementation guidelines for the NMFS at: http://www.cbp.gov/sites/default/files/documents/NMFS%20PGA%20Message%20Set%20Guidlines.pdf.

V. Test Participation Criteria and Participation Procedure

Any party seeking to participate in this test must provide CBP, in their request to participate, their filer code and the port(s) at which they are interested in filing the appropriate PGA Message Set and DIS information. Requests to participate in this test will be accepted throughout the duration of the test. To be eligible to apply for this pilot, the applicant must be a self-filing importer who has the ability to file ACE Entry Summaries certified for cargo release and ACE cargo release or a broker who has the ability to file ACE Entry Summaries certified for cargo release and ACE cargo release; and the applicant files entries for NMFS commodities that are the subject of this test. All PGA Message Set participants are required to use a software program that has completed ACE certification testing for the PGA Message Set. At this time, PGA Message Set data and DIS submissions may be submitted only for “01”, and “11” type entries filed at certain ports. CBP plans on expanding to include Type “02” entries in the near future. Test participants should contact their client representative regarding the expansion to additional entry types (See ADDRESSES). A current listing of the participating ports and the date each port becomes operational for the test may be found on the designated Web site (See DATES).

VI. Anticipated Process Changes

The current paper process for the NMFS-NOAA 370 Program, Highly Migratory Species (HMS) Program and the Antarctic Marine Living Resources (AMLR) Program will be replaced by a the submittal of data and scanned document images through a combination of the PGA Message Set and DIS. This test covers communication and coordination among the agencies and the filers for the importation of these fisheries products. The agencies will also be testing new operational processes in real time with actual ACE filings in the production environment that include test messages of errors in filing and release status updates to the port and to the filer. Entry data submissions will be subject to validation edits and any applicable PGA business rules programmed into ACE. Once entry data has cleared the initial stage of validation edits and PGA business rules, the filer will receive messages, automatically generated or manually initiated by NMFS, thus keeping the filer informed as to the status of the shipment from the time of entry data submission until the time of release. Once all of the PGAs have concluded their review of the shipment and have unset any remaining holds, CBP will send a one U.S. Government release message to the filer to indicate that the filer has fulfilled all U.S. Government filing requirements for the shipment.

VII. Confidentiality

All data submitted and entered into ACE is subject to the Trade Secrets Act (18 U.S.C. 1905) and is considered confidential, except to the extent as otherwise provided by law. As stated in previous notices, participation in this or any of the previous ACE tests is not confidential and upon a written Freedom of Information Act (FOIA) request, a name(s) of an approved participant(s) will be disclosed by CBP in accordance with 5 U.S.C. 552.

Authority: 19 U.S.C. 1411.

Dated: June 2, 2015.
John Henderschedt,
Director, Office for International Affairs and Seafood Inspection, National Marine Fisheries Service.

[FR Doc. 2015-13767 Filed 6-4-15; 8:45 am]

BILLING CODE 3510-22-P